NATIONAL ARCHIVES AND RECORDS ADMINISTRATION

[NARA-2017-067]

Agency Information Collection Activities: Submission for OMB Review; Comment Request

AGENCY: National Archives and Records Administration (NARA).

ACTION: Notice.

SUMMARY: NARA is giving notice that it has submitted to OMB for approval the information collection described in this notice. We invite you to comment on the proposed information collection pursuant to the Paperwork Reduction Act of 1995.

DATES: OMB must receive written comments at the address below on or before November 9, 2017.

ADDRESSES: Send comments to Mr. Nicholas A. Fraser, desk officer for NARA, by mail to Office of Management and Budget; New Executive Office Building; Washington, DC 20503; fax to 202-395-5167; or by email to Nicholas_A._Fraser@omb.eop.gov.

FOR FURTHER INFORMATION CONTACT: Direct requests for additional information or copies of the proposed information collection and supporting statement to Tamee Fechhelm by phone at 301-837-1694 or by fax at 301-837-0319.

SUPPLEMENTARY INFORMATION:

Information Collection Process

Pursuant to the Paperwork Reduction Act of 1995 (PRA; 44 U.S.C. 3501 et. seq.), we invite the public and other Federal agencies to comment on information collections we propose to renew. We submit proposals to renew information collections first through a public comment period and then to OMB for review and approval pursuant to the PRA. We published a notice of proposed renewal for this information collection on July 20, 2017 (82 FR 33520), and we received no comments. We have therefore submitted the described information collection to OMB for approval.

Request for Comments

We invite comments on: (a) Whether collecting this information is necessary for proper performance of the agency's functions, including whether the information will have practical utility; (b) the accuracy of our estimate of the information collection's burden on respondents; (c) ways to enhance the quality, utility, and clarity of the information we propose to collect; (d) ways to minimize the burden on respondents of collecting the information, including through the use of automated collection techniques or other forms of information technology; and (e) estimates of capital or start-up costs and costs of operation, maintenance, and purchase of services to provide information. Burden means the total time, effort, or financial resources people need to provide the information, including time to review instructions, process and maintain the information, search data sources, and respond.

Specifics on This Information Collection

Title: National Archives Public Vaults Survey.

OMB number: 3095-0062.

Agency form number: N/A.

Abstract: The information collection is prescribed by E.O. 12862 issued September 11, 1993, which requires Federal agencies to survey their customers concerning customer service. The general purpose of this voluntary data collection is to measure customer satisfaction with the Public Vaults and identify additional opportunities for improving the customers' experience.

Type of review: Regular.

Affected public: Individuals who visit the Public Vaults in Washington, DC.

Estimated number of respondents: 1,050.

Estimated time per response: 10 minutes.

Frequency of response: On occasion (when an individual visits the Public Vaults in Washington, DC).

Estimated total annual burden hours: 175 hours.

Swarnali Haldar,
Executive for Information Services/CIO.

[FR Doc. 2017-21699 Filed 10-6-17; 8:45 am]

BILLING CODE 7515-01-P